DEPARTMENT OF TRANSPORTATION

Federal Aviation Administration

14 CFR Part 39

[Docket No. FAA-2007-0250; Directorate Identifier 2007-CE-091-AD; Amendment 39-15279; AD 2007-24-13]

RIN 2120-AA64

Airworthiness Directives; Cirrus Design Corporation Model SR22 Airplanes

AGENCY: Federal Aviation Administration (FAA), DOT.

ACTION: Final rule; request for comments.

SUMMARY: The FAA is adopting a new airworthiness directive (AD) for certain Cirrus Design Corporation (Cirrus) Model SR22 airplanes. This AD requires you to install a drain hole in the left and right outboard wing tips. This AD results from reports of pilots' inability to move the aileron control without using excessive force when flying in freezing conditions. Moisture from a prior rain shower entered through a gap at the interface of the left and right outboard wing tips and wing structure. The moisture traveled along the aft wing shear web, accumulated below the aileron control pulley, and froze at an altitude with an outside air temperature below freezing. When this moisture is exposed to freezing conditions, operation of the aileron control pulley is impaired. We are issuing this AD to prevent moisture from accumulating along the wing shear web where it may freeze in certain conditions. This condition could result in operational failure of the aileron control pulley, which could lead to loss of control.

DATES: This AD becomes effective on December 4, 2007.

On December 4, 2007, the Director of the Federal Register approved the incorporation by reference of certain publications listed in this AD.

We must receive any comments on this AD by January 28, 2008.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Cirrus Design Corporation, 4515 Taylor Corporation, Duluth, Minnesota 55811; telephone: (218) 727-2737.

To view the comments to this AD, go to http://www.regulations.gov. The docket number is FAA-2007-0250; Directorate Identifier 2007-CE-091-AD.

FOR FURTHER INFORMATION CONTACT: Roy Boffo, Aerospace Engineer, Chicago Aircraft Certification Office, 2300 East Devon Avenue, Room 107, Des Plaines, Illinois 60018; telephone: (847) 294-7564; fax: (847) 294-7834.

SUPPLEMENTARY INFORMATION:

Discussion

We received a report that a production flight test pilot engaged the autopilot on a Cirrus Model SR22 airplane after climbing to 17,500 feet with an outside air temperature of −4 °C. While on autopilot, the airplane began drifting to the left. The pilot disengaged the autopilot and noticed that the aileron control was stuck. Using considerable force, the pilot was able to move the aileron control, but then it stuck in another position. After descending to an altitude with an outside air temperature above freezing, the aileron control returned to normal function.

The incident airplane was a Cirrus flight test airplane and was stored outside in the rain for at least one day before the flight. Take-off was also during a light rain.

The wing on the Cirrus SR22 airplane was recently redesigned. We have determined that the new design allows moisture to enter at the interface between the wing and wing tip. The moisture finds a path along the aft wing shear web and accumulates below the aileron pulley. When the moisture is exposed to freezing conditions, operation of the aileron control pulley is impaired.

Two other similar occurrences on production flight test airplanes have been reported.

This condition, if not corrected, could result in operational failure of the aileron control pulley. This failure could lead to loss of control.

Relevant Service Information

We reviewed Cirrus Design Service Bulletin SB 2X-57-08, dated November 2, 2007. The service information describes procedures for installing a drain hole in the left and right outboard wing tips.

FAA's Determination and Requirements of This AD

We are issuing this AD because we evaluated all the information and determined the unsafe condition described previously is likely to exist or develop on other products of the same type design. This AD requires you to install a drain hole in the left and right outboard wing tips.

In preparing this rule, we contacted type clubs and aircraft operators to get technical information and information on operational and economic impacts. We did not receive any information through these contacts. If received, we would have included a discussion of any information that may have influenced this action in the rulemaking docket.

FAA's Determination of the Effective Date

An unsafe condition exists that requires the immediate adoption of this AD. The FAA has found that the risk to the flying public justifies waiving notice and comment prior to adoption of this rule because operational failure of the aileron control pulley could lead to loss of control. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2007-0250; Directorate Identifier 2007-CE-091-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2007-24-13 Cirrus Design Corporation: Amendment 39-15279; Docket No. FAA-2007-0250; Directorate Identifier 2007-CE-091-AD.

Effective Date

(a) This AD becomes effective on December 4, 2007.

Affected ADs

(b) None.

Applicability

(c) This AD applies to Model SR22 airplanes, serial numbers 2334, 2420, and 2438 through 2749, that are certificated in any category.

Unsafe Condition

(d) This AD results from reports of pilots' inability to move the aileron control without using excessive force when flying in freezing conditions. Moisture entered through a gap at the interface of the left and right outboard wing tips and wing structure. The moisture traveled along the aft wing shear web, accumulated below the aileron control pulley, and froze at an altitude with an outside air temperature below freezing. When this moisture is exposed to freezing conditions, operation of the aileron control pulley is impaired. We are issuing this AD to prevent moisture from accumulating along the wing shear web where it may freeze in certain conditions. This condition could result in operational failure of the aileron control pulley, which could lead to loss of control.

Compliance

(e) To address this problem, you must do the following, unless already done:

Actions | Compliance | Procedures
Install a drain hole in the left and right outboard wing tips | At whichever of the following occurs first: (1) Within the next 10 hours time-in-service after December 4, 2007 (the effective date of this AD); or (2) Within the next 30 days after December 4, 2007 (the effective date of this AD) | Follow Cirrus Design Service Bulletin SB 2X-57-08, dated November 2, 2007.

Alternative Methods of Compliance (AMOCs)

(f) The Manager, Chicago Aircraft Certification (ACO) Office, FAA, has the authority to approve AMOCs for this AD, if requested using the procedures found in 14 CFR 39.19. Send information to ATTN: Roy Boffo, Aerospace Engineer, Chicago ACO, 2300 East Devon Avenue, Room 107, Des Plaines, Illinois 60018; telephone: (847) 294-7564; fax: (847) 294-7834. Before using any approved AMOC on any airplane to which the AMOC applies, notify your appropriate principal inspector (PI) in the FAA Flight Standards District Office (FSDO), or lacking a PI, your local FSDO.

Material Incorporated by Reference

(g) You must use Cirrus Design Service Bulletin SB 2X-57-08, dated November 2, 2007, to do the actions required by this AD, unless the AD specifies otherwise.

(1) The Director of the Federal Register approved the incorporation by reference of this service information under 5 U.S.C. 552(a) and 1 CFR part 51.

(2) For service information identified in this AD, contact Cirrus Design Corporation, 4515 Taylor Corporation, Duluth, Minnesota 55811; telephone: (218) 727-2737.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on November 20, 2007.
Kim Smith,
Manager, Small Airplane Directorate, Aircraft Certification Service.

[FR Doc. E7-23118 Filed 11-28-07; 8:45 am]

BILLING CODE 4910-13-P